FEDERAL COMMUNICATIONS COMMISSION

47 CFR Part 73

[DA 05-2199; MB Docket No. 05-81; RM-11102]

Radio Broadcasting Services; Altheimer, AR and Little Rock, AR

AGENCY: Federal Communications Commission.

ACTION: Final rule.

SUMMARY: At the request of Charles Crawford, Channel 251C3 is allotted at Altheimer, Arkansas, as the community's first local aural transmission service. Station KURB(FM), Channel 253C, Little Rock, Arkansas is reclassified as 253C0 pursuant to the reclassification procedures adopted by the Commission. See Second Report and Order in MM Docket 98-93 (1998 Biennial Regulatory Review—Streamlining of Radio Technical Rules in Parts 73 and 74 of the Commission's Rules) 65 FR 79773 (2000). An Order to Show Cause was issued to Citadel Broadcasting Company, licensee of Station KURB(FM) (RM-11102). Channel 251C3 is allotted at Altheimer, Arkansas, at Petitioner's requested site 20.4 kilometers (12.7 miles) southwest of the community at coordinates 34-09-00 NL and 91-56-00 WL.

DATES: Effective September 12, 2005.

ADDRESSES: Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 05-81, adopted July 27, 2005, and released July 29, 2005. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com. The Commission will send a copy of this Report and Order in a report to be sent to Congress and the Government Accountability Office pursuant to the Congressional Review Act, see 5 U.S.C. 801(a)(1)(A).

List of Subjects in 47 CFR Part 73

Radio, Radio broadcasting.

47 CFR part 73 is amended as follows:

PART 73—RADIO BROADCAST SERVICES

1. The authority citation for Part 73 continues to read as follows:

Authority: 47 U.S.C. 154, 303, 334 and 336.

§ 73.202 [Amended]

2. Section 73.202(b), the Table of FM Allotments under Arkansas is amended by adding Altheimer, Channel 251C3, and by removing Channel 253C and adding Channel 253C0 at Little Rock.

Federal Communications Commission.
John A. Karousos,
Assistant Chief, Audio Division, Media Bureau.

[FR Doc. 05-16076 Filed 8-16-05; 8:45 am]

BILLING CODE 6712-01-P